DEPARTMENT OF COMMERCE

International Trade Administration

[A-570-848]

Freshwater Crawfish Tail Meat From the People's Republic of China: Final Results of Antidumping Duty Administrative Review and Partial Rescission; 2010-2011

AGENCY: Import Administration, International Trade Administration, Department of Commerce.

SUMMARY: On October 9, 2012, the Department of Commerce (the Department) published the preliminary results of the administrative review of the antidumping duty order on freshwater crawfish tail meat from the People's Republic of China (the PRC). The period of review (POR) is September 1, 2010, through August 31, 2011. For the final results, we continue to find that certain companies covered by this review made sales of subject merchandise at less than normal value.

DATES: Effective Date: April 15, 2013.

FOR FURTHER INFORMATION CONTACT: Hermes Pinilla or Minoo Hatten, AD/CVD Operations, Office 1, Import Administration, International Trade Administration, U.S. Department of Commerce, 14th Street and Constitution Avenue NW., Washington, DC 20230; telephone: (202) 482-3477 or (202) 482-1690, respectively.

SUPPLEMENTARY INFORMATION:

Background

On October 9, 2012, the Department published the preliminary results of the administrative review of the antidumping duty order on freshwater crawfish tail meat from the PRC.¹ On January 14, 2013, we issued a memorandum extending the time limit for the final results of the review to April 9, 2013.² On February 25, 2013, we issued a post-preliminary memorandum finding that Xiping Opeck Food Co., Ltd.'s (Xiping Opeck) U.S. customer's customer is a price discriminator, i.e., is in a position to set the price of the product, for most of Xiping Opeck's entries subject to this review.³

¹ See Freshwater Crawfish Tail Meat From the People's Republic of China: Antidumping Duty Administrative Review; 2010-2011, 77 FR 61383 (October 9, 2012) (Preliminary Results) and the accompanying Memorandum to Paul Piquado, Assistant Secretary for Import Administration, from Christian Marsh, Deputy Assistant Secretary for Antidumping and Countervailing Duty Operations, entitled “Decision Memorandum for Preliminary Results of Antidumping Duty Administrative Review: Freshwater Crawfish Tail Meat from the People's Republic of China,” dated October 9, 2012 (Preliminary Decision Memorandum).

² See Memorandum to Christian Marsh, Deputy Assistant Secretary for Antidumping and Countervailing Duty Operations, entitled “Freshwater Crawfish Tail Meat from the People's Republic of China: Extension of Time Limit for Final Results of Antidumping Duty Administrative Review,” dated January 14, 2013.

³ See Memorandum to Paul Piquado, Assistant Secretary for Import Administration, entitled, “Freshwater Crawfish Tail Meat from the People's Republic of China—Post-Preliminary Analysis Memorandum” dated February 25, 2013 (Post-Preliminary Analysis Memo).

We received case and rebuttal briefs with respect to the Preliminary Results and the Post-Preliminary Analysis Memo, and at the Crawfish Processors Alliance's request, we held a hearing on March 14, 2013.

We have conducted this administrative review in accordance with section 751 of the Tariff Act of 1930, as amended (the Act).

Scope of the Order

The product covered by the antidumping duty order is freshwater crawfish tail meat. The freshwater crawfish tail meat subject to the order is currently classifiable under subheadings 1605.40.10.10, 1605.40.10.90, 0306.19.00.10, and 0306.29.00.00 of the Harmonized Tariff Schedule of the United States (HTSUS). The HTSUS subheadings are provided for convenience and customs purposes only. A full description of the scope of the order is contained in the Issues and Decision Memorandum,⁴ which is hereby adopted by this notice. The written description of the scope of the order is dispositive.

⁴ See Memorandum to Paul Piquado, Assistant Secretary for Import Administration, from Christian Marsh, Deputy Assistant Secretary for Antidumping and Countervailing Duty Operations, entitled “Issues and Decision Memorandum for the Final Results of Antidumping Duty Administrative Review of Freshwater Crawfish Tail Meat from the People's Republic of China” dated concurrently with this notice (Issues and Decision Memorandum).

Analysis of Comments Received

All issues raised in the case briefs by parties to this administrative review are addressed in the Issues and Decision Memorandum. A list of the issues raised is attached to this notice as an appendix. The Issues and Decision Memorandum is a public document and is on file electronically via Import Administration's Antidumping and Countervailing Duty Centralized Electronic Service System (IA ACCESS). Access to IA ACCESS is available to registered users at http://iaaccess.trade.gov and is available to all parties in the Central Records Unit, room 7046 of the main Department of Commerce building. In addition, a complete version of the Issues and Decision Memorandum can be accessed directly on the Import Administration Web site at http://ia.ita.doc.gov/frn/index.html. The signed Issues and Decision Memorandum and the electronic versions of the Issues and Decision Memorandum are identical in content.

Rescission of Administrative Review in Part

We preliminarily found that Shanghai Ocean Flavor International Trading Co., Ltd. (Shanghai Ocean Flavor), and Xuzhou Jinjiang Foodstuffs Co., Ltd. (Xuzhou Jinjiang) did not have exports of subject merchandise during the POR and, on this basis, we stated our intent to rescind the review in part.⁵ We continue to find that Shanghai Ocean Flavor and Xuzhou Jinjiang had no shipments of freshwater crawfish tail meat from the PRC during the POR. In accordance with 19 CFR 351.213(d)(3), we are rescinding the review of Shanghai Ocean Flavor, and Xuzhou Jinjiang.

⁵ See Preliminary Decision Memorandum, at 2-3.

Nature of Transactions Pertaining to the Entries Under Review With Respect to Xiping Opeck

In our Post-Preliminary Analysis Memo we preliminarily found that another entity (hereinafter, Company A) ⁶ plays a role in the pricing associated with most of Xiping Opeck's entries of subject merchandise in this review. For a detailed discussion on this issue and of our calculation of the antidumping margin on the sales made by Company A, see the Post-Preliminary Analysis Memo. For these final results, we continue to find that Company A plays a role in the pricing associated with most of Xiping Opeck's entries of subject merchandise in this review.

⁶ We are withholding the identity of Company A because Xiping Opeck's U.S. customer claimed business-proprietary treatment of this information. See Post-Preliminary Analysis Memo at 1.

Separate Rate for a Non-Selected Company

Nanjing Gemsen International Co., Ltd. (Nanjing) is the only exporter of crawfish tail meat from the PRC that demonstrated its eligibility for a separate rate which was not selected for individual examination in this review. The calculated rates of the respondents selected for individual examination have changed since the Preliminary Results and are now all zero. Accordingly, we have concluded that in this case a reasonable method for determining the rate for the non-selected company, Nanjing, is to apply its most recent individually calculated rate of 12.37 percent to Nanjing, its calculated rate in a previous administrative review.⁷ For a detailed discussion, see Issues and Decision Memorandum.

⁷ See Freshwater Crawfish Tail Meat From the People's Republic of China: Final Results of Antidumping Duty Administrative and New-Shipper Reviews, 75 FR 79337 (December 20, 2010).

Changes Since the Preliminary Results

Based on our analysis of comments received, we have made revisions that have changed the results for certain companies. Additionally, we have made calculation programming changesfor the final results. For further details on the changes we made for these final results, see the company-specific analysis memoranda, the Post-Preliminary Analysis Memo, and the Issues and Decision Memorandum, which are hereby adopted by this notice.

Final Results of the Review

As a result of the administrative review, we determine that the following percentage weighted-average dumping margins exist for the period September 1, 2010, through August 31, 2011:

Company | Margin (percent)
Xiping Opeck Food Co., Ltd. | 0.00
China Kingdom (Beijing) Import & Export Co. Ltd. | 0.00
Yangcheng Hi-King Agriculture Developing Co. Ltd.⁸ | 0.00
Nanjing Gemsen International Co., Ltd. | 12.37

Assessment

The Department will determine, and U.S Customs and Border Protection (CBP) shall assess, antidumping duties on all appropriate entries covered by this review. We intend to issue assessment instructions to CBP 15 days after the date of publication of the final results of review.

⁸ For these final results, we continue to find that Yangcheng Hi-King Agriculture Developing Co. Ltd (Hi-King Agriculture) and its affiliates, Yancheng Seastar Seafood Co., Ltd., Wuhan Hi-King Agriculture Development Co., Ltd., Yancheng Hi-King Frozen Food Co., Ltd., Jiangxi Hi-King Poyang Lake Seafood Co., Ltd., and Yancheng Hi-King Aquatic Growing Co., Ltd., are a single entity for the purpose of calculating an antidumping duty margin. See Issues and Decision memorandum.

For Xiping Opeck, China Kingdom (Beijing) Import & Export Co. Ltd., and Hi-King Agriculture we will instruct CBP to liquidate all entries during the POR without regard to antidumping duties because their weighted-average dumping margins in these final results are zero or de minimis.⁹ For Nanjing, the only non-selected respondent that received a separate rate, we will instruct CBP to apply an antidumping duty assessment rate equal to the weighted-average dumping margin in these final results of 12.37 percent to all entries of subject merchandise that entered the United States during the POR.

⁹ See Antidumping Proceeding: Calculation of the Weighted-Average Dumping Margin and Assessment Rate in Certain Antidumping Duty Proceedings; Final Modification, 77 FR 8103 (February 14, 2012).

Cash Deposit Requirements

The following cash deposit requirements will be effective upon publication of these final results of review for all shipments of the subject merchandise entered, or withdrawn from warehouse, for consumption on or after the publication date as provided by section 751(a)(2)(C) of the Act: (1) For subject merchandise exported by the companies listed above that have separate rates, the cash deposit rate will be the rate established in this final results of review for each exporter as listed above, except if the rate is zero or de minimis, then no cash deposit will be required for that exporter; (2) for previously investigated companies not listed above that have separate rates, the cash deposit rate will continue to be the company-specific rate published for the investigation; (3) for all other PRC exporters of subject merchandise which have not been found to be entitled to a separate rate, the cash deposit rate will be the PRC-wide rate of 223.01 percent; (4) for all non-PRC exporters of subject merchandise which have not received their own rate, the cash deposit rate will be the rate applicable to the PRC entity that supplied that non-PRC exporter. These deposit requirements shall remain in effect until further notice.

Notifications

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

These final results of review are issued and published in accordance with sections 751(a)(1) and 777(i) of the Act.

Dated: April 9, 2013.
Paul Piquado,
Assistant Secretary for Import Administration.

Appendix

1. Use of U.S. Prices to Value Whole Crawfish

2. Use of Post-POR Spanish Prices to Value Whole Crawfish

3. Use of Updated Financial Information to Value Factory Overhead, Selling, General & Administrative (SG&A) Expenses, and Profit

[FR Doc. 2013-08791 Filed 4-12-13; 8:45 am]

BILLING CODE 3510-DS-P